NATIONAL SCIENCE FOUNDATION

Sunshine Act Meetings

The National Science Board's Executive Committee hereby gives notice of the scheduling of a teleconference for the transaction of National Science Board business, pursuant to the National Science Foundation Act and the Government in the Sunshine Act.

TIME AND DATE: Wednesday, January 26, 2022, from 4:00-5:00 p.m. EST.

PLACE: This meeting will be held by teleconference through the National Science Foundation.

STATUS: Open.

MATTERS TO BE CONSIDERED: Committee Chair's opening remarks; approval of Executive Committee minutes of November 8, 2021; and discuss issues and topics for an agenda of the NSB meeting scheduled for February 23-24, 2022.

CONTACT PERSON FOR MORE INFORMATION: Point of contact for this meeting is: Nirmala Kannankutty, 703/292-8000. To listen to this teleconference, members of the public must send an email to nationalsciencebrd@nsf.gov at least 24 hours prior to the teleconference. The National Science Board Office will send requesters a toll-free dial-in number. Meeting information and updates may be found at www.nsf.gov/nsb.

Chris Blair,
Executive Assistant to the National Science Board Office.

[FR Doc. 2022-01213 Filed 1-19-22; 11:15 am]

BILLING CODE 7555-01-P